DEPARTMENT OF ENERGY

Federal Energy Regulatory Commission

[Project No. P-15331-001]

Marlow Hydro LLC; Notice of Application Accepted for Filing And Soliciting Motions To Intervene and Protests

Take notice that the following hydroelectric application has been filed with the Commission and is available for public inspection.

a. Type of Application: Original Minor License.

b. Project No.: 15331-001.

c. Date filed: July 31, 2024.

d. Applicant: Marlow Hydro, LLC (Marlow Hydro).

e. Name of Project: Nash Mill Dam Hydroelectric Project.

f. Location: On the Ashuelot River, in town of Marlow, Cheshire County, New Hampshire.

g. Filed Pursuant to: Federal Power Act 16 U.S.C. 791(a)-825(r).

h. Applicant Contact: Anthony B. Rosario, Marlow Hydro, 139 Henniker St, Hillsborough, NH, 03244; Phone at (603) 494-1854; or email at t-iem@tds.net.

i. FERC Contact: Prabha Madduri at 202-502-8017, or prabharanjani.madduri@ferc.gov.

j. Deadline for filing motions to intervene and protests: December 23, 2024.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne Reese, Secretary, Federal Energy Regulatory Commission, 888 First Street NE, Room 1A, Washington, DC 20426. Submissions sent via any other carrier must be addressed to: Debbie-Anne Reese, Secretary, Federal Energy Regulatory Commission, 12225 Wilkins Avenue, Rockville, Maryland 20852. All filings must clearly identify the project name and docket number on the first page: Nash Mill Hydroelectric Project (P-15331-001).

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis at this time.

l. The Nash Mill Project consists of the following existing facilities: (1) a 57-foot-long, 9-foot-high, concrete gravity dam topped with 3-foot-high collapsible wooden flashboards with a crest elevation of 1,133.41 feet North American Vertical Datum 1988 (NAVD 88) at the top of the flashboards; (2) a 2-acre impoundment; (3) an intake structure on the north side of the dam equipped with a 10-foot-high by 10-foot-wide trash rack with 1-inch clear bar spacing; (4) a 4-foot-diameter, 1,525-foot-long, round steel penstock that trifurcates into two 2-foot-diameter penstocks and one 4-foot-diameter pipe; (5) a 31-foot-long by 18-foot-wide powerhouse that contains two vertical-shaft, fixed propeller turbine-generator units and one horizontal-shaft turbine-generator unit for a total installed capacity of 225 kilowatts; (6) a 600-foot-long tailrace; (7) a 1,800-foot-long bypassed reach; (8) a 0.48 kilovolt (kV), 75 kilo-volt-ampere transformer; (9) a 1,830-foot-long, 12.5-kV transmission line; and (10) appurtenant facilities.

Marlow Hydro currently operates the project in a run-of-river mode. The current license requires Marlow Hydro to release a continuous minimum flow of 23 cubic feet per second (cfs) from the project as measured downstream of the powerhouse, with a continuous flow of 5.2 cfs over the dam. From 2016 to 2020, average annual generation of the Nash Mill Project was 552 megawatt-hours.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202)502-6595, or OPP@ferc.gov.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments | January 2025.
Comments on Scoping Document 1 | March 2025.
Issue Scoping Document 2 (if necessary) | April 2025.
Issue Notice of Ready for Environmental Analysis | April 2025.

Dated: October 24, 2024.
Debbie-Anne A. Reese,
Secretary.

[FR Doc. 2024-25272 Filed 10-30-24; 8:45 am]

BILLING CODE 6717-01-P